DEPARTMENT OF DEFENSE

Office of the Secretary

Board of Regents of the Uniformed Services University of the Health Sciences

AGENCY: Department of Defense (DoD).

ACTION: Federal advisory committee charter modification.

SUMMARY: Under the provisions of the Federal Advisory Committee Act of 1972, (5 U.S.C. Appendix, as amended), the Government in the Sunshine Act of 1976 (5 U.S.C. 552b, as amended), and 41 CFR 102-3.65, the Department of Defense gives notice that it is amending the charter for the Board of Regents of the Uniformed Services University of the Health Sciences (hereafter referred to as the Board of Regents).

FOR FURTHER INFORMATION CONTACT: Jim Freeman, Deputy Committee Management Officer, 703-601-6128.

SUPPLEMENTARY INFORMATION: The Board of Regents charter is being modified as a result of the Fiscal Year 2010 National Defense Authorization Act. Specifically, the Act amends the membership criteria in 10 U.S.C. 2113a(b)(1) from people with qualifications in “health and health education” to “health care, higher education administration, or public policy.”

Pursuant to 41 CFR 102-3.105(j) and 102-3.140, the public or interested organizations may submit written statements to the Board of Regents, Uniformed Services University of the Health Sciences about its mission and functions. Written statements should be submitted to the advisory committee's Designated Federal Officer for consideration by the membership of the Board of Regents. The advisory committee's Designated Federal Officer contact information can be obtained from the GSA's FACA Database— https://www.fido.gov/facadatabase/public.asp.

The Designated Federal Officer, pursuant to 41 CFR 102-3.150, will announce planned meetings of the Board of Regents, Uniformed Services University of the Health Sciences. The Designated Federal Officer, at that time, may provide additional guidance on the submission of written statements that are in response to the stated agenda for the planned meeting in question.

Dated: December 10, 2009.
Mitchell S. Bryman,
Alternate OSD Federal Register Liaison Officer, Department of Defense.

[FR Doc. E9-29784 Filed 12-14-09; 8:45 am]

BILLING CODE 5001-06-P